DEPARTMENT OF THE INTERIOR

Bureau of Land Management

[WO-320-1330-PB-24 1A]

Extension of Approved Information Collection, OMB Approval Number 1004-0169

AGENCY: Bureau of Land Management, Interior.

ACTION: Notice and request for comments.

SUMMARY: In accordance with the Paperwork Reduction Act of 1995, the Bureau of Land Management (BLM) is requesting the Office of Management and Budget (OMB) to extend an existing approval to collect information from mining claimants concerning use and occupancy of their mining claims on public lands. BLM collects this information to analyze and approve proposed mining development activities on public lands. The nonform information under 43 CFR 3715 authorizes BLM to manage the use and occupancy on public lands for developing the mineral deposits by mining claimants.

DATES: You must submit your comments to BLM at the address below on or before October 23, 2001. BLM will not necessarily consider any comments received after the above date.

ADDRESSES: You may mail comments to: Regulatory Affairs Group (630), Bureau of Land Management, Mailstop 401LS, 1849 C Street, NW, Washington, DC 20240.

You may send comments via Internet to: WOComment@blm.gov. Please include “ATTN; 1004-0169” and your name and return address in your Internet message.

You may deliver comments to the Bureau of Land Management, Administrative Record, Room 401, 1620 L Street, NW, Washington, DC.

Comments will be available for public review at the L Street address during regular business hours (7:45 a.m. to 4:15 p.m.) Monday through Friday.

FOR FURTHER INFORMATION CONTACT: You may contact Richard E. Deery on (202) 452-0353 (Commercial or FTS). Persons who use a telecommunication device for the deaf (TDD) may call the Federal Information Relay Service (FIRS) on 1-800-877-8330, 24 hours a day, seven days a week, to contact Mr. Deery.

SUPPLEMENTARY INFORMATION: 5 CFR 1320.12(a) requires that we provide a 60-day notice in the Federal Register concerning a collection of information to solicit comments on:

(a) Whether the collection of information is necessary for the proper functioning of the agency, including whether the information will have practical utility;

(b) The accuracy of our estimates of the information collection burden, including the validity of the methodology and assumptions we use;

(c) Ways to enhance the quality, utility, and clarity of the information collected; and

(d) Ways to minimize the information collection burden on those who are to respond, including the use of appropriate automated, electronic, mechanical, or other technological collection techniques or other forms of information technology.

The General Mining Law (30 U.S.C. 612), Federal Land Policy and Management Act of 1976 (43 U.S.C. 1733), and the regulations under 43 CFR 3715 authorizes BLM to manage use and occupancy of mining claims on public lands. The nonform information in the regulations under 43 CFR 3715 authorizes BLM to collect information concerning proposed mining development activities on public lands. Without this information, BLM would not be able to analyze and approve proposed use and occupancy activities on public lands by mining claimants. Also, BLM would not be able to carry out the mandate of the Federal Land Policy and Management Act of 1976.

Mining claimants planning to occupy their mining claims on public lands under the mining laws must submit the following information to BLM:

(1) A detailed map that identifies the site and shows the place of temporary and permanent structures for occupancy, the location of and reason for the structures intended to exclude the public, and the location of reasonable public passage or access routes through or around the area adjacent to public lands;

(2) A written description of the proposed occupancy that describes in detail how the proposed occupancy is reasonably incident to mining and how the proposed occupancy meets the conditions of 43 CFR 3715.2 and 3715.2-1; and

(3) An estimate of the period of use of the structures which excludes the public and a schedule for their removal and reclamation when the operations end.

Based upon BLM experience with mining claims use and occupancy activity, we estimate the public reporting information collection burden takes 2 hours to complete. The respondents are mining claimants and operators of prospecting, exploration, mining, and processing operations. The estimated number of responses per year is 280 and the total annual burden is 560 hours.

BLM will summarize all responses to this notice and include them in the request for OMB approval. All comments will become a matter of public record.

Dated: July 30, 2001.
Michael H. Schwartz,
BLM Information Collection Clearance Officer.

[FR Doc. 01-21472 Filed 8-23-01; 8:45 am]

BILLING CODE 4310-84-M